ANTITRUST MODERNIZATION COMMISSION

Public Meeting

AGENCY: Antitrust Modernization Commission.

ACTION: Notice of public meeting.

SUMMARY: The Antitrust Modernization Commission will hold a public meeting on March 24, 2005. The purpose of the meeting is for the Antitrust Modernization Commission to consider additional issues proposed for further Commission study, pursuant to its statutory mandate.

DATES: March 24, 2005, 10 a.m. to 12 p.m. Interested members of the public may attend. Registration is not required.

ADDRESSES: Federal Trade Commission, Conference Center Rooms A & B, 601 New Jersey Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of this meeting is for the Antitrust Modernization Commission to consider additional issues for further Commission study pursuant to its statutory mandate, which were deferred at the Commission's meeting on January 13, 2005. Materials relating to the meeting will be made available on the Commission's Web site (http://www.amc.gov) in advance of the meeting.

The AMC has called this meeting pursuant to its authorizing statute and the Federal Advisory Committee Act. Antitrust Modernization Commission Act of 2002, Pub. L. 107-273, § 11058(f), 116 Stat. 1758, 1857; Federal Advisory Committee Act, 5 U.S.C. App., 10(a)(2); 41 CFR 102-3.150 (2004).

Dated: February 14, 2005.
By direction of Deborah A. Garza, Chair of the Antitrust Modernization Commission. Approved by Designated Federal Officer:
Andrew J. Heimert,
Executive Director & General Counsel, Antitrust Modernization Commission.

[FR Doc. 05-3244 Filed 2-18-05; 8:45 am]

BILLING CODE 6820-YM-P